DEPARTMENT OF THE INTERIOR

Bureau of Land Management

[20X.LLAK930100 L510100000.ER0000]

Notice of Availability of the Willow Master Development Plan Final Environmental Impact Statement, Alaska

AGENCY: Bureau of Land Management, Interior.

ACTION: Notice of availability.

SUMMARY: In accordance with the National Environmental Policy Act of 1969, as amended, the Bureau of Land Management (BLM) has prepared a Final Environmental Impact Statement (EIS) for the Willow Master Development Plan, and by this notice is announcing its publication.

DATES: The BLM will issue a Record of Decision for the project no earlier than 30 days from the date of the Final EIS Notice of Availability published by the Environmental Protection Agency.

ADDRESSES: To access the Final EIS or to request an electronic or paper copy, please reach out to:

• Website: http://www.blm.gov/alaska/WillowEIS.

• Email: rajones@blm.gov.

• Mail: Willow FEIS Comments, BLM Alaska State Office, 222 W 7th Ave. #13, Anchorage AK 99513.

FOR FURTHER INFORMATION CONTACT: Racheal Jones, Willow EIS Project Manager, telephone: 907-290-0307; address: 222 West 7th Avenue, #13, Anchorage, Alaska 99513. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The Willow Master Development Plan Final EIS analyzes an oil and gas development project proposed by ConocoPhillips Alaska, Inc. on federal oil and gas leases it holds in the northeast region of the National Petroleum Reserve in Alaska (NPR-A), as well as alternatives to the proposed project and measures to avoid and mitigate impacts to surface resources and other uses including subsistence use. The BLM has identified Alternative B and Module Delivery Option 3 as its preferred alternative. If the Willow Master Development Plan is approved, ConocoPhillips Alaska, Inc. may submit applications to build up to five drill sites, a central processing facility, an operations center pad, gravel roads, ice roads and ice pads, 1 or 2 airstrips (varies by alternative), a freshwater reservoir, an ice bridge across the Colville River to transfer facility modules into the NPR-A, pipelines, and a gravel mine site. The project would have a peak production in excess of 160,000 barrels of oil per day (with a processing capacity of 200,000 barrels of oil per day) over its approximately 30-year life, producing up to approximately 590 million total barrels of oil. The project would help offset declines in production from the North Slope oil fields and contribute to the local, state, and national economies.

Authority: 40 CFR 1506.6(b).

Chad B. Padgett,
State Director, Alaska.

[FR Doc. 2020-17722 Filed 8-13-20; 8:45 am]

BILLING CODE 4310-JA-P